OCCUPATIONAL SAFETY AND HEALTH REVIEW COMMISSION

Privacy Act of 1974; New Blanket Routine Use

AGENCY: Occupational Safety and Health Review Commission.

ACTION: Notice of new blanket routine use.

SUMMARY: In accordance with the Privacy Act of 1974, 5 U.S.C. 552a, as amended, the Occupational Safety and Health Review Commission (OSHRC) is proposing in this notice the addition of a new blanket routine use. OSHRC's Privacy Act system-of-records notices are published at 72 FR 54301, 54301-03 (Sept. 24, 2007), and 71 FR 19556, 19556-67 (Apr. 14, 2006), with an additional blanket routine use published at 73 FR 45256, 45256-57 (Aug. 4, 2008).

DATES: Comments must be received by OSHRC on or before November 16, 2015. The new blanket routine use will become effective on that date, without any further notice in the Federal Register, unless comments or government approval procedures necessitate otherwise.

ADDRESSES: You may submit comments by any of the following methods:

• Email:rbailey@oshrc.gov. Include “PRIVACY ACT BLANKET ROUTINE USE” in the subject line of the message.

• Fax: (202) 606-5417.

• Mail: One Lafayette Centre, 1120 20th Street NW., Ninth Floor, Washington, DC 20036-3457.

• Hand Delivery/Courier: same as mailing address.

Instructions: All submissions must include your name, return address and email address, if applicable. Please clearly label submissions as “PRIVACY ACT BLANKET ROUTINE USE.”

FOR FURTHER INFORMATION CONTACT: Ron Bailey, Attorney-Advisor, Office of the General Counsel, via telephone at (202) 606-5410, or via email at rbailey@oshrc.gov.

SUPPLEMENTARY INFORMATION: The Privacy Act of 1974, 5 U.S.C. 552a(e)(4) and (11), requires OSHRC to publish in the Federal Register notice of any new routine use of an OSHRC system of records, and to provide an opportunity for interested persons to submit written data, views, or arguments to the agency. OSHRC is proposing the addition of a new blanket routine use, which would allow OSHRC and the Office of Government Information Services (OGIS) to share information. OGIS has the statutory mandate to review Freedom of Information Act (FOIA) policies, procedures and compliance of administrative agencies, and to offer mediation services to resolve disputes between FOIA requesters and agencies. Simplifying the procedure for exchanging information would increase the efficiency of the FOIA administrative process.

OSHRC's proposed blanket routine use is published below. Eleven other blanket routine uses, which remain in effect, were last published at 71 FR 19556, 19558-59 (Apr. 14, 2006), and 73 FR 45256, 45256-57 (Aug. 4, 2008).

Blanket Routine Uses

(12) A record from an OSHRC system of records may be disclosed as a blanket routine use to the National Archives and Records Administration, Office of Government Information Services (OGIS), to the extent necessary to fulfill its responsibilities in 5 U.S.C. 552(h), to review administrative agency policies, procedures and compliance with FOIA, and to facilitate OGIS' offering of mediation services to resolve disputes between persons making FOIA requests and administrative agencies.

Dated: September 29, 2015.
Cynthia L. Attwood,
Acting Chairman.

[FR Doc. 2015-25169 Filed 10-2-15; 8:45 am]

BILLING CODE 7600-01-P